DEPARTMENT OF TRANSPORTATION

Federal Railroad Administration

[Docket Number FRA-2012-0005]

Petition for Waiver of Compliance

In accordance with Part 211 of Title 49 Code of Federal Regulations (CFR), this document provides the public notice that by a document dated January 30, 2013, NJ Transit (NJT) has petitioned the Federal Railroad Administration (FRA) for an extension of temporary emergency relief from compliance with certain provisions of the Federal railroad safety regulations contained at 49 CFR parts 229—Railroad Locomotive Safety Standards; 236—Rules, Standards, and Instructions Governing the Installation, Inspection, Maintenance, and Repair of Signal and Train Control Systems, Devices and Appliances; and 238—Passenger Equipment Safety Standards due to severe weather related to Hurricane Sandy. Specifically, NJT petitions for an additional 60-day extension of the waiver from compliance with the provisions of the following sections of the CFR: 49 CFR 229.9—Movement of non-complying locomotives, 49 CFR 229.23-Periodic inspection: general, 49 CFR 27—Annual tests, 49 CFR 236.11-Adjustment, repair, or replacement of component, 49 CFR 236.101-Purpose of inspection and tests; removal from service of relay or device failing to meet test requirements, 49 CFR 236.588-Periodic test, 49 CFR 238.307-Periodic mechanical inspection of passenger cars and unpowered vehicles used in passenger trains, and 49 CFR 238.309, Periodic brake equipment maintenance. FRA assigned the petition Docket Number FRA-2012-0005.

NJT states that its primary maintenance facility for rail vehicles is the Meadows Maintenance Complex. This facility was heavily damaged by flood waters as a result of the October 29, 2012, hurricane. NJT's original estimates of damage to the facility and restoration to full operating capacity were made during the week immediately following the event.

NJT has made recovery efforts in order to achieve full compliance with the requirements of the above-cited CFR regulations. Since the beginning of the original waiver period, NJT has performed periodic inspections on 98 locomotives and 27 self-propelled Arrow vehicles. NJT has also completed the 180-day inspection for 145 railcars as part of the unscheduled repair. Nonetheless, NJT has reviewed its capabilities and has determined that it will not be possible to complete all required inspections, which will be overdue on the expiration date of this waiver: February 25, 2013. NJT also states that removing all overdue vehicles from service on that date will severely affect NJT's ability to provide sufficient passenger service on all of its operating lines. FRA conditionally granted NJT's extension request on February 19, 2013.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except on Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number, and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand delivery: 1200 New Jersey Avenue SE., Room W12-140, Washington, DC 20590, between 9 a.m. and 5 p.m., Monday through Friday, except on Federal holidays.

Communications received by March 27, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice for regulations.gov; interested parties may review DOT's complete Privacy Act Statement in the Federal Register published on April 11, 2000 (65 FR 19477).

Issued in Washington, DC, on March 4, 2013.
Robert C. Lauby,
Deputy Associate Administrator for Regulatory and Legislative Operations.

[FR Doc. 2013-05340 Filed 3-6-13; 8:45 am]

BILLING CODE 4910-06-P